DEPARTMENT OF THE INTERIOR

Bureau of Land Management

[CACA-41834; CA-188-1430-00]

Notice of Realty Action; Land Use Lease of Public Land, Nevada County, California

AGENCY: Department of the Interior, Bureau of Land Management.

REALTY ACTION: Land Use Lease, Nevada County, CACA41834.

SUMMARY: The following described public land is being considered for a land use lease pursuant to Section 302 of the Federal Land Policy and Management Act of October 21, 1976 (43 U.S.C. 1713):

T. 15N., R. 10E., MDM

Section 6: lot 89 (portion of) Nevada County, CA

Containing 4.71 acres, more or less.

The above parcel of public land would be leased to the Nevada Irrigation District, Grass Valley, CA, through a non-competitive process. The lease would authorize a continued gravel operation plant on the public lands and would be issued for an initial term of five years, subject to renewal. The land will be leased at fair market value.

The lease would be subject to any prior existing rights. A categorical exclusion and decision record have been completed. The proposal is consistent with the Bureau's land use plans.

ADDRESSES: Interested parties may submit comments to the Field Manager, 63 Natoma Street, Folsom, California 95630. Comments must be received within 45 days from the date of this publication.

FOR FURTHER INFORMATION CONTACT: Contact Jodi Swaggerty, Realty Specialist at (916) 985-4474 or at the address above.

D.K. Swickard,
Field Manager.

[FR Doc. 00-21456 Filed 8-22-00; 8:45 am]

BILLING CODE 4310-HC-P